DEPARTMENT OF DEFENSE

Office of the Department of the Air Force

U.S. Air Force Scientific Advisory Board; Notice of Federal Advisory Committee Meeting

AGENCY: U.S. Air Force Scientific Advisory Board, Office of the Department of the Air Force, Department of Defense.

ACTION: Notice of Federal Advisory Committee meeting.

SUMMARY: The Department of Defense (DoD) is publishing this notice to announce that the following Federal Advisory Committee meeting of the U.S. Air Force Scientific Advisory Board will take place.

DATES: Partially Closed to the public Thursday June 14, 2018 from 8:30 a.m. to 4:00 p.m. Pacific Time.

ADDRESSES: Beckman Center Auditorium, Arnold and Mabel Beckman Center of the National Academies of Sciences and Engineering, 100 Academy Way, Irvine, CA 92617

FOR FURTHER INFORMATION CONTACT: Evan Buschmann, (240) 612-5503 (Voice), 703-693-5643 (Facsimile), evan.g.buschmann.civ@us.af.mil (email). Mailing Address is 1500 West Perimeter Road, Ste. #3300, Joint Base Andrews, MD 20762. Website: http://www.sab.af.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140.

Purpose of the Meeting: The purpose of this quarterly board meeting is to formally complete, outbrief, and receive majority approval for the content and recommendations contained in the United States Air Force Scientific Advisory Board Fiscal Year 2018 studies.

Agenda: 0830-0900 Welcoming Remarks & Quarterly Update—Dr. James S. Chow, Chair, SAB 0900-0930 Air Force Scientific Advisory Board Volunteer Executive Officer Awards 0930-1000 FY19 S&T Review Program Update—Dr. Lara Schmidt, Chair, S&T Reviews 1000-1130 Technologies for Enabling Resilient Command and Control (TRC)—Dr. Nils Sandell, Study Chair (Closed to Public) 1130-1300 Lunch Break 1300-1500 Maintaining Technology Superiority for the USAF (MTS)—Lt Gen George Muellner (Ret.) (Closed to Public) 1500-1515 Break 1515-1545 FY19 Study Topic Terms of Reference discussion—Dr. James S. Chow, Chair, SAB (Closed to Public) 1545-1600 Closing Comments—Dr. James S. Chow, Chair, SAB

Meeting Accessibility: Portions of the Air Force Scientific Advisory Board Summer Meeting will be closed to the public because the Board will discuss classified information and matters covered by Section 552b of Title 5, United States Code, subsection (c), subparagraph (1).

Written Statements: Any member of the public that wishes to provide input on the Air Force Scientific Advisory Board Summer Meeting must contact the meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

Henry Williams,
Acting Air Force Federal Register Liaison Officer.

[FR Doc. 2018-11439 Filed 5-25-18; 8:45 am]

BILLING CODE 5001-10-P